ENVIRONMENTAL PROTECTION AGENCY

40 CFR Part 52

[EPA-R09-OAR-2011-0701; FRL-9462-4]

Revisions to the California State Implementation Plan, San Joaquin Valley Unified Air Pollution Control District

AGENCY: Environmental Protection Agency (EPA).

ACTION: Proposed rule.

SUMMARY: EPA is proposing to approve revisions to the San Joaquin Valley Unified Air Pollution Control District (SJVUAPCD) portion of the California State Implementation Plan (SIP). These revisions concern: volatile organic compound (VOC) emissions from steam enhanced crude oil production and aerospace coating operations. We are approving local rules that regulate these emission sources under the Clean Air Act as amended in 1990 (CAA or the Act). We are taking comments on this proposal and plan to follow with a final action. In a separate interim final action published in the Rules section in today's Federal Register, we are deferring sanctions that would otherwise apply to the SJVUAPCD.

DATES: Any comments must arrive by October 12, 2011.

ADDRESSES: Submit comments, identified by docket number EPA-R09-OAR-2011-0701, by one of the following methods:

1. Federal eRulemaking Portal: http://www.regulations.gov. Follow the on-line instructions.

2. E-mail: steckel.andrew@epa.gov.

3. Mail or deliver: Andrew Steckel (Air-4), U.S. Environmental Protection Agency Region IX, 75 Hawthorne Street, San Francisco, CA 94105-3901.

Instructions: All comments will be included in the public docket without change and may be made available online at http://www.regulations.gov, including any personal information provided, unless the comment includes Confidential Business Information (CBI) or other information whose disclosure is restricted by statute. Information that you consider CBI or otherwise protected should be clearly identified as such and should not be submitted through http://www.regulations.gov or e-mail. http://www.regulations.gov is an “anonymous access” system, and EPA will not know your identity or contact information unless you provide it in the body of your comment. If you send e-mail directly to EPA, your e-mail address will be automatically captured and included as part of the public comment. If EPA cannot read your comment due to technical difficulties and cannot contact you for clarification, EPA may not be able to consider your comment.

Docket: Generally, documents in the docket for this action are available electronically at http://www.regulations.gov and in hard copy at EPA Region IX, 75 Hawthorne Street, San Francisco, California. While all documents in the docket are listed at http://www.regulations.gov, some information may be publicly available only at the hard copy location (e.g., copyrighted material, large maps), and some may not be publicly available in either location (e.g., CBI). To inspect the hard copy materials, please schedule an appointment during normal business hours with the contact listed in the FOR FURTHER INFORMATION CONTACT section.

FOR FURTHER INFORMATION CONTACT: Adrianne Borgia, EPA Region IX, (415) 972-3576, borgia.adrianne@epa.gov.

SUPPLEMENTARY INFORMATION: Throughout this document, “we,” “us” and “our” refer to EPA.

Table of Contents

I. The State's Submittal

A. What rules did the State submit?

B. Are there other versions of these rules?

C. What is the purpose of the submitted rules and rule revisions?

II. EPA's Evaluation and Action

A. How is EPA evaluating the rules?

B. Do the rules meet the evaluation criteria?

C. EPA Recommendations to Further Improve the Rules

D. Public Comment and Final Action

III. Statutory and Executive Order Reviews

I. The State's Submittal

A. What rules did the State submit?

Table 1 lists the rules addressed by this proposal with the dates that they were amended by the local air agency and submitted by the California Air Resources Board.

Table 1—Submitted Rules
Local Agency | Rule No. | Rule title | Amended | Submitted
SJVUAPCD | 4401 | Steam-Enhanced Crude Oil Production Wells | 06/16/11 | 07/28/11
SJVUAPCD | 4605 | Aerospace Assembly and Component Coating Operations | 06/16/11 | 07/28/11

On August 3, 2011, EPA determined that the submittal for SJVUAPCD Rules 4401 and 4605 met the completeness criteria in 40 CFR part 51 Appendix V, which must be met before formal EPA review.

B. Are there other versions of these rules?

On January 26, 2010 (75 FR 3996) we finalized a limited approval of versions of Rules 4401 and 4605 that were adopted locally on December 14, 2006 and September 20, 2007 respectively, thereby incorporating those versions of the two rules into the SIP. We simultaneously finalized a limited disapproval of the same two rules based on our identification of deficiencies in each of these rules. SJVUAPCD adopted revisions to the SIP-approved versions on June 16, 2011 that were intended to address the deficiencies identified in our January 2010 action, and CARB submitted these revisions to us on July 28, 2011.

C. What is the purpose of the submitted rules and rule revisions?

SJVUAPCD Rules 4401 and 4605 are both intended to limit emissions of VOCs, which help produce ground-level ozone and smog that are harmful to human health and the environment. Section 110(a) of the CAA requires States to submit regulations that control VOC emissions.

SJVUAPCD Rule 4401, Steam-Enhanced Crude Oil Production Wells, is designed to limit VOC emissions at steam-enhanced crude oil production wells. The rule establishes requirements for inspection, maintenance and replacement/retrofit of leaking components. It includes administrative and recordkeeping requirements, such as inspection logs. The purpose of this rule amendment is to correct the rule deficiency in Section 6.2.4 as identified by EPA and to clarify existing rule provisions by removing expired language throughout the rule.

SJVUAPCD Rule 4605, Aerospace Assembly and Component Coating Operations, is designed to limit VOC emissions at these operations. The rule establishes limits for coatings used in the aerospace industry and defines alternative emission control system requirements. It also includes recordkeeping, reporting, and monitoring requirements. The primary purpose of the June 2011 rule amendment is to correct deficiencies identified by EPA in the January 26, 2010 (75 FR 3996) final rulemaking on the previous version of this rule.

EPA's technical support documents (TSDs) for Rules 4401 and 4605 have more information about these rules.

II. EPA's Evaluation and Action

A. How is EPA evaluating the rules?

Several statutory provisions apply to EPA's evaluation of the rules. CAA section 110(a)(2)(A) requires that regulations submitted to EPA for approval into a SIP must be clear and legally enforceable. CAA section 110(l) prohibits EPA from approving any SIP revision that would interfere with any applicable requirement concerning attainment and reasonable further progress (RFP) or any other applicable requirement of the CAA, and CAA section 193 prohibits the modification of any SIP-approved control requirement in effect before November 15, 1990, in a nonattainment area. CAA section 172(c)(1) requires nonattainment areas to implement all reasonably available control measures (RACM), including such reductions in emissions from existing sources in the area as may be obtained through the adoption, at a minimum, of reasonably available control technology (RACT), as expeditiously as practicable. In addition, under CAA section 182(b)(2), ozone nonattainment areas classified as moderate or above must implement RACT for all VOC sources covered by a Control Technique Guideline (CTG) document and for all other major sources of VOCs. The SJVUAPCD regulates an ozone nonattainment area that is classified as Extreme under both the one-hour ozone and eight-hour ozone standards (40 CFR 81.305 (2011)) and Rules 4401 and 4605 apply to sources covered by a CTG document. Therefore, Rules 4401 and 4605 must fulfill RACT requirements for VOCs.

Guidance and policy documents that we use to evaluate enforceability and RACT requirements consistently include the following:

1. “Issues Relating to VOC Regulation Cutpoints, Deficiencies, and Deviations,” EPA, May 25, 1988 (the Bluebook).

2. “Guidance Document for Correcting Common VOC & Other Rule Deficiencies,” EPA Region 9, August 21, 2001 (the Little Bluebook).

3. EPA's CTG titled, “Surface Coating Operations at Aerospace Manufacturing & Rework Operations” (EPA-453/R-97-004, December 1997).

4. EPA's CTG titled, “Control of VOC Emissions from Solvent Metal Cleaning” (EPA-450/2-77-022, November 1977) SJVAPCD's 2009 RACT SIP Demonstration (April 16, 2009).

B. Do the rules meet the evaluation criteria?

We believe these rules are consistent with the relevant statutory criteria and guidance regarding enforceability, RACT and SIP relaxations. We also believe these rules have adequately addressed the deficiencies identified in our January 26, 2010 action by removing inappropriate director's discretion in Rule 4401, and adding and lowering emission limits consistent with the relevant national guidance in Rule 4605.

The TSD for each rule has more information on our evaluation.

C. EPA Recommendations To Further Improve The Rules

The TSDs describe additional rule revisions that we recommend for the next time the local agency modifies these rules but are not currently the basis for rule disapproval.

D. Public Comment and Final Action

Because EPA believes the submitted rules fulfill all relevant requirements and incorporate revisions that correct the deficiencies identified for both Rule 4401 and 4605 in the limited disapproval on January 26, 2010 (75 FR 3996), we are proposing to fully approve them under section 110(k)(3) of the Act. We will accept comments from the public on this proposal for the next 30 days. Unless we receive convincing new information during the comment period, we intend to publish a final approval action that will incorporate these rules into the Federally enforceable SIP. Our final action will permanently terminate the sanctions clocks associated with our January 26, 2010 action on the effective date of the final approval.

III. Statutory and Executive Order Reviews

Under the Clean Air Act, the Administrator is required to approve a SIP submission that complies with the provisions of the Act and applicable Federal regulations. 42 U.S.C. 7410(k); 40 CFR 52.02(a). Thus, in reviewing SIP submissions, EPA's role is to approve State choices, provided that they meet the criteria of the Clean Air Act. Accordingly, this proposed action merely proposes to approve State law as meeting Federal requirements and does not impose additional requirements beyond those imposed by State law. For that reason, this proposed action:

• Is not a “significant regulatory action” subject to review by the Office of Management and Budget under Executive Order 12866 (58 FR 51735, October 4, 1993);

• Does not impose an information collection burden under the provisions of the Paperwork Reduction Act (44 U.S.C. 3501 et seq.);

• Is certified as not having a significant economic impact on a substantial number of small entities under the Regulatory Flexibility Act (5 U.S.C. 601 et seq.);

• Does not contain any unfunded mandate or significantly or uniquely affect small governments, as described in the Unfunded Mandates Reform Act of 1995 (Pub. L. 104-4);

• Does not have Federalism implications as specified in Executive Order 13132 (64 FR 43255, August 10, 1999);

• Is not an economically significant regulatory action based on health or safety risks subject to Executive Order 13045 (62 FR 19885, April 23, 1997);

• Is not a significant regulatory action subject to Executive Order 13211 (66 FR 28355, May 22, 2001);

• Is not subject to requirements of Section 12(d) of the National Technology Transfer and Advancement Act of 1995 (15 U.S.C. 272) because application of those requirements would be inconsistent with the Clean Air Act; and

• Does not provide EPA with the discretionary authority to address disproportionate human health or environmental effects with practical, appropriate, and legally permissible methods under Executive Order 12898 (59 FR 7629, February 16, 1994).

In addition, this proposed action does not have Tribal implications as specified by Executive Order 13175 (65 FR 67249, November 9, 2000), because the SIP is not approved to apply in Indian country located in the State, and EPA notes that it will not impose substantial direct costs on Tribal governments or preempt Tribal law.

List of Subjects in 40 CFR Part 52

Environmental protection, Air pollution control, Intergovernmental relations, Ozone, Reporting and recordkeeping requirements, Volatile organic compounds.

Authority: 42 U.S.C. 7401 et seq.

Dated: August 31, 2011.
Jared Blumenfeld,
Regional Administrator, Region IX.

[FR Doc. 2011-23142 Filed 9-9-11; 8:45 am]

BILLING CODE 6560-50-P